DEPARTMENT OF TRANSPORTATION

Research and Special Programs Administration

49 CFR Parts 105, 107, 130, 171, 172, 173, 175, 176, 177, 178, 179 and 180

[Docket No. RSPA-02-12524 (HM-189T)]

RIN 2137-AD72

Hazardous Materials Regulations: Minor Editorial Corrections and Clarifications

AGENCY: Research and Special Programs Administration (RSPA), DOT.

ACTION: Final rule.

SUMMARY: This final rule corrects editorial errors, makes minor regulatory changes, and, in response to requests for clarification, improves the clarity of certain provisions in the Hazardous Materials Regulations (HMR). The intended effect of this rule is to enhance the accuracy and reduce misunderstandings of the regulations. The amendments contained in this rule are minor editorial changes and do not impose new requirements.

DATES: Effective date: September 27, 2002. Incorporation by reference date: The incorporation by reference of certain publications listed in these amendments is approved by the Director of the Federal Register as of September 27, 2002.

FOR FURTHER INFORMATION CONTACT: Eileen Edmonson, Office of Hazardous Materials Standards, (202) 366-8553, Research and Special Programs Administration, U.S. Department of Transportation, 400 Seventh Street, SW., Washington, DC 20590-0001.

SUPPLEMENTARY INFORMATION:

I. Background

RSPA (we, us) annually reviews the Hazardous Materials Regulations (HMR; 49 CFR Parts 171-180) to identify errors that may confuse readers. Inaccuracies corrected in this final rule include typographical and printing errors, incorrect references to other rules and regulations in the CFR, inconsistent use of terminology, and misstatements of certain regulatory requirements. In addition, we are making certain other changes to improve the clarity of certain HMR requirements.

Because these amendments do not impose new requirements, notice and public procedure are unnecessary. In addition, making these amendments effective without the customary 30-day delay following publication will allow the changes to appear in the next revision of 49 CFR.

The following is a section-by-section summary of the major amendments made under this final rule. It does not discuss all minor editorial corrections (e.g., typographical, capitalization and punctuation errors), changes to legal authority citations, and certain other minor adjustments to enhance the clarity of the HMR.

II. Summary of Regulatory Changes

Part 105, Subpart B, Table of Contents

We adopted Part 105 containing general procedures on how to obtain various hazardous material-related public documents in a final rule published on June 25, 2002 (Docket No. RSPA-98-3974, 67 FR 42948). In this final rule, we are correcting the table of contents' heading for § 105.15 for consistency with the heading appearing in that section.

Section 105.25

We are revising the first sentence in paragraph (a)(2) to reflect a reference point by exemption number instead of by a cut-off date for locations where exemption documents are available for public review. Also we are removing paragraph (b) and redesignating paragraph (c) as paragraph (b). We are making this amendment because the lower numbered exemption documents are being relocated from the Hazardous Materials Records Center to the Office of Hazardous Materials Exemptions and Approvals. The new location for these documents is identified in new paragraph (b)(2)(iv).

Sections 107.105, 107.107 and 107.109

We are revising §§ 107.105(a)(1), 107.107(b)(1) and 107.109(a)(1) to permit a person applying for an exemption, party-to status to an application or existing exemption, or an exemption renewal to submit the application to us by facsimile or electronic mail. This change will expedite the transmission of documents and reduce the costs associated with the handling and mailing of paper copies.

Section 107.117

We are revising paragraph (d)(3) to reflect the new title, address, and daytime telephone number of the contact person at the Federal Motor Carrier Safety Administration. We are revising the night telephone number in paragraphs (d)(3), (d)(4), and (d)(5) to reflect a toll-free night number managed by the National Response Center. Also, we are revising paragraph (d)(4) to replace an obsolete daytime telephone number.

Section 107.127

We are revising paragraph (a) to change the office name and room number where persons may view certain public documents.

Sections 107.305 and 107.321

We are revising these sections to correct outdated references to former § 107.13. This section was removed under Docket No. RSPA-98-3974.

Sections 107.402 and 107.502

We are revising these sections to permit a person filing for designation as an approval or certification agency, or filing a registration statement, to submit the application to us by facsimile or electronic mail. This change will expedite the transmission of documents and reduce the costs inherent with the handling and mailing of paper copies.

Section 107.705

We are revising paragraph (a)(1) of this section to permit a person filing an approval application to submit it to us by facsimile or electronic mail. This change will expedite the transmission of documents and reduce the costs inherent with the handling and mailing of paper copies.

Part 107

In addition, we are revising several sections in Part 107 to correct outdated references to former §§ 107.5 and 107.7. These sections were removed under Docket No. RSPA-98-3974.

Section 130.5

We are revising the Note following the definition of “Liquid” to add a zip code and change the office name and room number where persons may view certain public documents.

Section 171.6

We are revising the table in paragraph (b)(2) to update the affected sections for OMB control numbers 2137-0018 and 2137-0051.

Section 171.7

We are revising paragraph (a)(2)(i) to change the office name and room number where persons may view certain public documents.

In paragraph (a)(3), we are updating the incorporation by reference of the American National Standards Institute, Inc.”s (ANSI) publication, “Standard for Packaging of Uranium Hexafluoride for Transport,” to include the 1995 and 2001 editions. Current § 173.420 of the HMR permits uranium hexafluoride to be transported in packagings designed, fabricated, inspected, tested and marked according to the ANSI N14.1 1990, 1987, 1982, or 1971 edition in effect at the time the packaging was manufactured. The 1995 edition discontinues a marking requirement in the 1990 edition that the American Society of Mechanical Engineers (ASME) Boiler and Pressure Vessel Code be stamped on 1S and 2S uranium hexafluoride cylinders. The 2001 edition corrects an inconsistency concerning the package marking size on the 30B and 48-inch uranium hexafluoride cylinders. We are also revising the entry to correct the address for ANSI.

Under “American Society of Mechanical Engineers” (ASME), we are revising the entry to correct the address for ASME.

Under “American Society for Testing and Materials,” the title of the entry “ASTM B 580-79” is revised to correctly state the specifications are for “anodic” oxide coatings on aluminum, and the standard was re-approved in 2000.

Under “International Atomic Energy Agency” (IAEA), we are correcting the format of the address for IAEA and the title for “Safety Series No. 6” by revising the word “Materials” to read “Material” and removing the wording “Including 1985 Edition (Supplemented 1986 and 1988).” The safety series was amended in 1990. We are also correcting the entry for the “IAEA Regulations for the Safe Transport of Radioactive Material,” and the addresses where copies of this document may be obtained.

Under “International Organization for Standardization” (ISO), we are correcting the addresses where copies of the ISO documents may be obtained.

Section 171.8

We are making minor editorial corrections to the definitions for the acronyms “Psi”, “Psia”, and “Psig'.

Section 171.12

We are updating paragraph (d) to remove the dates following the references to the two IAEA standards because the applicable editions are listed in § 171.7.

Section 172.101

We are adding a new paragraph (j)(5). Paragraph (j) explains how to apply the quantity limitations in Columns 9A and 9B of the Hazardous Materials Table (HMT) for hazardous materials intended for transportation by aircraft or passenger rail car. The new paragraph (j)(5) alerts persons to the additional general requirements in § 173.24a(c)(1)(iv) that prescribe total net quantity limitations for outer non-bulk packagings containing more than one hazardous material when offered for transportation by aircraft.

In Column 2 of the HMT, the entry “Octafluorocyclobutane or Refrigerant gas” is revised to correct the “RC” number to “318”.

In Column 6 of the HMT, the compatibility group letter “C” is added to the label code to read “1.2C” for the entry “Rockets, with inert head,” UN 0502. This letter was omitted in error when the entry was added to the HMT in a final rule published on April 3, 2002, under Docket No. RSPA-2000-7702 (HM-215D) (67 FR 15736).

In Column 7 of the HMT, Special provision 25 containing an expired compliance date is removed in each shipping description entry it appears.

In Column 10B of the HMT, the entry “Polymeric beads, expandable evolving flammable vapor”, is corrected by adding “85, 87.” These numbers were removed in error in a final rule published on April 3, 2002, under Docket No. RSPA-2000-7702 (HM-215D) (67 FR 15736).

Section 172.102

In paragraph (c)(1), Special provision 25 containing an expired compliance date is removed. Paragraph (c)(4) is revised to clarify that the letter “Z” shown in the marking code in Table 1 for composite intermediate bulk containers (IBCs) must be replaced with the IBC code letter as designated in § 178.707(a)(2) and listed in § 178.702(a)(2).

Section 172.203

In paragraph (k), the technical name “Caprylyl chloride” is revised to read “Octanoyl chloride” because it is a more-recognized synonym for the material.

Sections 172.407

We are revising paragraph (d)(4)(ii) to change the office name and room number where persons may view certain public documents.

Section 173.4

In paragraph (a)(1)(ii), we are removing the wording, other than Division 6.1, Packing Group I, “Hazard Zone A or B” to clarify that hazard zones do not apply to solids. See the definition for “Hazard Zone” in § 171.8.

Section 173.10

In paragraph (e), Note 2, we are replacing the word “injury” with the word “damage” for clarity.

Section 173.21

In paragraph (k), we are removing an obsolete reference to § 175.10(a)(24) that was removed in a final rule published on August 19, 1999, under Docket No. HM-224A (64 FR 45388).

Section 173.54

In paragraph (f), we are revising the reference to “14 CFR 108.11” to read “49 CFR 1544.219”. Part 108 of 14 CFR was removed in a final rule published on February 22, 2002 (67 FR 8340) and issued jointly by the Federal Aviation Administration (FAA) and Transportation Security Administration. The requirements in former 14 CFR 108.11 were revised and placed in new section 49 CFR 1544.219.

Section 173.115

In paragraph (j), we are correcting the reference to “§ 173.315(a)(1)” to read “§ 173.315(a)'.

Section 173.150

In paragraph (e)(1), we are removing the semicolon and the word “and” at the end of the sentence and adding a period. The provisions in paragraphs (e)(1) and (e)(2) are independently mutual.

Section 173.225

In paragraph (b)(3), we are adding a sentence at the end of the paragraph to alert shippers of organic peroxides that qualify for more than one generic listing, depending on concentration, of a requirement in § 172.203. Section 172.203(k), introductory text, requires on the shipping paper, as part of the technical name, the actual concentration of the organic peroxide being shipped or the concentration range for its appropriate generic listing.

Section 173.247

We are revising the section heading to clarify that elevated temperature materials in other than Class 9 (miscellaneous) and Class 3 (flammable liquid) are referred to this section by the HMT.

Section 173.305

In paragraph (c)(1), we are replacing the word “injury” with the word “damage” for clarity.

Section 173.315

The second sentence in paragraph (i)(1)(iv) referencing the Bureau of Explosives is removed. In paragraph (j)(3), we are replacing the word “injury” with the word “damage” for clarity.

Section 173.320

In paragraph (c), the reference to “P202” in the International Civil Aviation Organization's Technical Instructions for the Safe Transport of Dangerous Goods is corrected to read “202”.

Section 173.334

In paragraph (f), we are replacing the word “injury” with the word “damage” for clarity.

Section 173.337

In paragraphs (a) and (b), we are replacing the word “injury” with the word “damage” for clarity.

Section 173.420

We are updating paragraph (a)(2)(i) to provide for uranium hexafluoride packagings fabricated to the latest ANSI standards, as stated earlier in the preamble discussion to § 171.7.

Section 173.471, 173.472, 173.473 and 173.476

We are revising these sections to permit a person filing an application for a competent authority approval covered by these sections, or requesting to register as a user of a competent authority certificate, to submit the application or request to us by facsimile or electronic mail. This change will expedite the transmission of documents and reduce the costs inherent with the handling and mailing of paper copies.

Section 175.10

In paragraph (a)(5), the reference to “14 CFR 108.11(a) and (b)” is revised to read “49 CFR 1544.219”, as stated earlier in the preamble discussion to § 173.54.

Section 175.320

In paragraph (b)(5), we are removing the reference to 14 CFR part 127 and adding a reference to 14 CFR part 133. FAA removed part 127 in a final rule published December 20, 1995 (60 FR 65832). In the preamble discussion of that rule, FAA stated that all rotorcraft operators regardless of size must comply with Part 133 and external-load operators must comply with Part 135, which is already referenced in the section. (60 FR 65882.)

Section 176.2

In the definition for “INF cargo,” we are removing the wording “2000 edition” following the reference to the International Maritime Dangerous Goods (IMDG) Code because it is the only edition incorporated by reference in § 171.7.

Section 176.128.

Paragraph (c) is revised editorially for clarity.

Section 176.340

In paragraph (b)(9), the wording “§ 173.32(e)(2), (3), and (4)” is corrected to read “§ 180.605”. The portable tank requirements in former § 173.32(e)(2), (3), and (4) were revised and moved to § 180.605 in a final rule published on June 21, 2001, under Docket No. RSPA-2000-7702 (HM-215D) (66 FR 33316).

In paragraph (b)(10), the wording “paragraphs (g), (h), (i), and (k) of § 173.32” is corrected to read “§ 180.605(b) and (j)”. These revisions were also made in the HM-215D final rule.

Section 177.840

We are revising paragraph (l) to clarify that this requirement applies only to cargo tank motor vehicles equipped with emergency discharge control equipment in conformance with § 173.315(n). We adopted paragraph (l) in a final rule published under Docket No. RSPA-97-2718 (HM-225A, May 24, 1999; 64 FR 28030). The HM-225A final rule requires cargo tanks transporting certain liquefied compressed gases to be equipped with emergency discharge control equipment that will operate in the event of an accident or emergency during the unloading process. The emergency discharge control requirement is specified in § 173.315(n) of the HMR. The table in § 173.315(n)(1) specifies that Division 2.2 materials with no subsidiary hazard (excluding anhydrous ammonia) are not required to have an emergency discharge control capability. Section 177.840(l) was intended to apply to cargo tank motor vehicles equipped with emergency discharge control equipment in conformance with § 173.315(n). As currently written, however, paragraph (l) appears to apply to all cargo tank motor vehicles transporting any liquefied compressed gas.

Section 178.3

In paragraphs (b) introductory text and (b)(1), we are removing the reference to “Annex 1” of the IMDG Code because it is included in the edition incorporated by reference in § 171.7.

Section 178.51

In paragraph (f)(1)(i), the reference to “table I” is corrected to read “table 1”.

Section 178.58

Paragraph (k)(2)(ii) is revised editorially for clarity.

Section 178.61

In paragraph (b)(1), the reference “table I” is corrected to read “table 1”. In paragraph (b)(2), the reference to “paragraph (f)(1)” is corrected to read “paragraph (f)(4)'.

Section 178.270-11

In paragraph (d)(3), the reference to “§ 173.32a of this subchapter” is revised to read “§ 178.273(b)(7)”. The requirements in former § 173.32a concerning the application for approval of specification IM portable tanks were revised and moved to § 178.273(b)(7) in the final rule published on June 21, 2001, under Docket No. RSPA-2000-7702 (HM-215D) (66 FR 33316).

Section 178.273

In paragraph (b)(8)(ii), the reference to “§ 180.605 of this subchapter” is revised to correctly reference the initial inspection and test requirements for portable tanks in § 178.274(j).

Section 178.354-3

The example in paragraph (a) referring to DOT 6C and 17C packagings is removed.

Section 178.362-1

In paragraph (b)(6), the maximum gross weight, in kilograms, of the jacket for a DOT 20WC-6 cylinder is corrected to read 2730 kilograms (6,000 pounds).

Section 178.503

In paragraph (e)(3), in the last sentence, the parenthetical text “(as in § 178.503 (c)(1), (2), (3), (4), and (5))” is revised to read “(as in § 178.503(c)(1))”. The requirements in paragraphs (c)(1) through (c)(5) were combined into paragraph (c)(1) in a final rule published on December 29, 1994, under Docket No. HM-215A (59 FR 67390).

Section 178.603

We are revising the introductory text to paragraph (e) to clarify a provision stated in § 178.601(a), that the test procedures described in 49 CFR Subpart M are minimum requirements. When the final rule incorporating the performance test requirements was published on December 21, 1990, under Docket Nos. HM-181, HM-181A, HM-181B, HM-181C, HM-181D, and HM-204 (55 FR 52402), RSPA accepted as a given that packagings capable of passing these tests would also survive normal transportation conditions. Therefore, RSPA expects that a package that has been successfully drop tested at a height higher than is prescribed for its packing group need not be retested at the minimum drop height to be marked to its packing group performance level. However, for the test to be valid, each package must strike its intended target in the proper orientation prescribed in § 178.603(a), and pass the other prescribed design type tests for which it is certified and marked.

Section 178.707

We are revising paragraph (a) and removing paragraphs (a)(1) and (a)(2) to clarify that the letter “Z” appearing in the marking code for composite IBCs in this section must be replaced by a letter representing the material used for the outer packaging.

Section 179.201-2

We are revising the table in paragraph (a) to correct a printing error and to display the numerical reference to the footnote in the table and following the table in a more distinguishable manner.

Section 179.500-10

In paragraph (a), we are replacing the word “injury” with the word “damage” for clarity.

Section 180.417

In paragraph (c)(2), the reference “Director, Regional Office of Motor Carrier Safety, Federal Highway Administration” is revised to read “Field Administrator, Regional Service Center, Federal Motor Carrier Safety Administration.”

III. Rulemaking Analyses and Notices

A. Executive Order 12866 and DOT Regulatory Policies and Procedures

This final rule is not considered a significant regulatory action under section 3(f) of Executive Order 12866 and, therefore, was not reviewed by the Office of Management and Budget. This rule is not significant under the Regulatory Policies and Procedures of the Department of Transportation (44 FR 11034). Because of the minimal economic impact of this rule, preparation of a regulatory impact analysis or a regulatory evaluation is not warranted.

B. Executive Order 13132

This final rule has been analyzed in accordance with the principles and criteria in Executive Order 13132 (“Federalism”). This final rule does not propose any regulation that: (1) Has substantial direct effects on the States, the relationship between the national government and the States, or the distribution of power and responsibilities among the various levels of government; (2) imposes substantial direct compliance costs on State and local governments; or (3) preempts state law.

RSPA is not aware of any State, local, or Indian tribe requirements that would be preempted by correcting editorial errors and making minor regulatory changes. This final rule does not have sufficient federalism impacts to warrant the preparation of a federalism assessment.

C. Executive Order 13175

This rule has been analyzed in accordance with the principles and criteria contained in Executive Order 13175 (“Consultation and Coordination with Indian Tribal Governments”). Because this rule does not have tribal implications and does not impose substantial direct compliance costs, the funding and consultation requirements of Executive Order 13175 do not apply.

D. Regulatory Flexibility Act

I certify that this final rule will not have a significant economic impact on a substantial number of small entities. This rule makes minor editorial changes which will not impose any new requirements on persons subject to the HMR; thus, there are no direct or indirect adverse economic impacts for small units of government, businesses or other organizations.

E. Unfunded Mandates Reform Act of 1995

This rule does not impose unfunded mandates under the Unfunded Mandates Reform Act of 1995. It does not result in costs of $100 million or more to either State, local, or tribal governments, in the aggregate, or to the private sector, and is the least burdensome alternative that achieves the objective of the rule.

F. Paperwork Reduction Act

There are no new information collection requirements in this final rule.

G. Regulation Identifier Number (RIN)

A regulation identifier number (RIN) is assigned to each regulatory action listed in the Unified Agenda of Federal Regulations. The Regulatory Information Service Center publishes the Unified Agenda in April and October of each year. The RIN number contained in the heading of this document can be used to cross-reference this action with the Unified Agenda.

List of Subjects

49 CFR Part 105

Administrative practice and procedure, Hazardous materials transportation.

49 CFR Part 107

Administrative practice and procedure, Hazardous materials transportation, Penalties, Reporting and recordkeeping requirements.

49 CFR Part 130

Oil, Response Plans, Reporting and recordkeeping requirements, Transportation.

49 CFR Part 171

Exports, Hazardous materials transportation, Hazardous waste, Imports, Incorporation by reference, Reporting and recordkeeping requirements.

49 CFR Part 172

Education, Hazardous materials transportation, Hazardous waste, Incorporation by reference, Labeling, Markings, Packaging and containers, Reporting and recordkeeping requirements.

49 CFR Part 173

Hazardous materials transportation, Incorporation by reference, Packaging and containers, Radioactive materials, Reporting and recordkeeping requirements, Uranium.

49 CFR Part 175

Air carriers, Hazardous materials transportation, Radioactive materials, Reporting and recordkeeping requirements.

49 CFR Part 176

Hazardous materials transportation, Maritime carriers, Radioactive materials, Reporting and recordkeeping requirements.

49 CFR Part 177

Hazardous materials transportation, Motor carriers, Radioactive materials, Reporting and recordkeeping requirements.

49 CFR Part 178

Hazardous materials transportation, Incorporation by reference, Motor vehicle safety, Packaging and containers, Reporting and recordkeeping requirements.

49 CFR Part 179

Hazardous materials transportation, Railroad safety, Reporting and recordkeeping requirements.

49 CFR Part 180

Hazardous materials transportation, Motor vehicle safety, Packaging and containers, Reporting and recordkeeping requirements.

In consideration of the foregoing, 49 CFR Chapter I is amended as follows:

PART 105—HAZARDOUS MATERIALS PROGRAM DEFINITIONS AND GENERAL PROCEDURES

1. The authority citation for part 105 continues to read as follows:

Authority: 49 U.S.C. 5101-5127; 49 CFR 1.53.

2. Amend Part 105, in the table of contents under Subpart B by revising the heading for § 105.15 to read as follows:

* * * * *

Subpart B—General Procedures
105.15 Defined terms used in this subpart.

* * * * *

3. Amend § 105.25 by:

a. revising the first sentence in paragraph (a)(2);

b. removing paragraph (b) and redesignating paragraph (c) as paragraph (b);

c. redesignating newly redesignated paragraph (b)(2)(iv) as paragraph (b)(2)(v); and

d. adding a new paragraph (b)(2)(iv).

The revisions and additions read as follows:

§ 105.25 Reviewing public documents.

* * * * *

(a) * * *

(2) Applications for exemption numbered DOT-E 11832 and above. * * *

* * * * *

(b) * * *

(2) * * *

(iv) Applications for exemptions numbered below DOT-E 11832 and related background information are available for public review and copying at the Office of Hazardous Materials Safety, Office of Hazardous Materials Exemptions and Approvals, U.S. Department of Transportation, Room 8100, 400 7th Street, SW., Washington, DC 20590-0001.

* * * * *

PART 107—HAZARDOUS MATERIALS PROGRAM PROCEDURES

4. The authority citation for part 107 continues to read as follows:

Authority: 49 U.S.C. 5101-5127; 44701; Sec. 212-213, Pub. L. 104-121, 110 Stat. 857; 49 CFR 1.45, 1.53.

5. Amend § 107.105 by revising paragraph (a)(1) to read as follows:

§ 107.105 Application for exemption.

(a) * * *

(1) Be submitted for timely consideration, at least 120 days before the requested effective date, in duplicate to: Associate Administrator for Hazardous Materials Safety (Attention: Exemptions, DHM-31), Research and Special Programs Administration, U.S. Department of Transportation, 400 7th Street, SW., Washington, DC 20590-0001. Alternatively, the application with any attached supporting documentation submitted in an appropriate format may be sent by facsimile (fax) to: (202) 366-3753 or (202) 366-3308 or by electronic mail (e-mail) to: Exemptions@rspa.dot.gov;

* * * * *

6. Amend § 107.107 by revising paragraph (b)(1) to read as follows:

§ 107.107 Application for party status.

* * * * *

(b) * * *

(1) Be submitted in duplicate to: Associate Administrator for Hazardous Materials Safety (Attention: Exemptions, DHM-31), Research and Special Programs Administration, U.S. Department of Transportation, 400 7th Street, SW, Washington, DC 20590-0001. Alternatively, the application with any attached supporting documentation submitted in an appropriate format may be sent by facsimile (fax) to: (202) 366-3753 or (202) 366-3308 or by electronic mail (e-mail) to: Exemptions@rspa.dot.gov;

* * * * *

7. Amend § 107.109 by revising paragraph (a)(1) to read as follows:

§ 107.109 Application for renewal.

(a) * * *

(1) Be submitted in duplicate to: Associate Administrator for Hazardous Materials Safety (Attention: Exemptions, DHM-31), Research and Special Programs Administration, U.S. Department of Transportation, 400 7th Street, SW, Washington, DC 20590-0001. Alternatively, the application with any attached supporting documentation submitted in an appropriate format may be sent by facsimile (fax) to: (202) 366-3753 or (202) 366-3308 or by electronic mail (e-mail) to: Exemptions@rspa.dot.gov;

* * * * *

8. Amend § 107.117, by revising paragraphs (d)(3), (d)(4), and (d)(5) to read as follows:

§ 107.117 Emergency processing.

* * * * *

(d) * * *

(3) Motor Vehicle Transportation: Chief, Hazardous Materials Division, Federal Motor Carrier Safety Administration, U.S. Department of Transportation, Washington, DC 20590-0001, 202-366-6121 (day); 1-800-424-8802 (night).

(4) Rail Transportation: Staff Director, Hazardous Materials Division, Office of Safety Assurance and Compliance, Federal Railroad Administration, U.S. Department of Transportation, Washington, DC 20590-0001, 202-493-6248 or 202-493-6244 (day); 1-800-424-8802 (night).

(5) Water Transportation: Chief, Hazardous Materials Standards Division, Office of Operating and Environmental Standards, United States Coast Guard, U.S. Department of Transportation, Washington, DC 20593-0001, 202-267-1577 (day); 1-800-424-8802 (night).

* * * * *

§ 107.127 [Amended]

9. In § 107.127(a), in the first sentence, the following amendments are made:

a. The wording “RSPA Records Center” is removed and the wording “Office of Hazardous Materials Exemptions and Approvals” is added in its place.

b. The wording “Room 8421” is removed and the wording “Room 8100” is added in its place.

§ 107.305 [Amended]

10. Amend § 107.305 by:

a. In paragraph (a), removing the reference “§ 107.13” and adding the reference “§ 105.45” in its place.

b. In paragraph (b)(4), removing the reference “§ 107.13(c) and (d)” and adding the reference “§ 105.50” in its place.

c. In paragraph (b)(4), removing the reference “§ 107.13(h)” and adding the reference “§ 105.55(a)” in its place.

d. In paragraph (b)(4), removing the reference “§ 107.13(i)” and adding the reference “§ 105.55(b)” in its place.

§ 107.321 [Amended]

11. Amend § 107.321(b)(2) by removing the reference “§ 107.13” and adding the reference “§ 105.45” in its place.

12. Amend § 107.402 by removing the first sentence in paragraph (a) and adding two sentences in its place to read as follows:

§ 107.402 Application for designation as an approval or certification agency.

(a) Any organization or person seeking designation as an approval or certification agency shall apply in writing to the Associate Administrator for Hazardous Materials Safety (DHM-32), Department of Transportation, 400 Seventh Street, SW., Washington DC 20590-0001. Alternatively, the application with any attached supporting documentation in an appropriate format may be submitted by facsimile (fax) to: (202) 366-3753 or (202) 366-3308 or by electronic mail (e-mail) to: Approvals@rspa.dot.gov. * * *

* * * * *

13. Amend § 107.502 by revising paragraph (d) to read as follows:

§ 107.502 General registration requirements.

* * * * *

(d) Registration statements must be in English, contain all of the information required by this subpart, and be submitted to: Approvals Branch (Attn.: DHM-32), Associate Administrator for Hazardous Materials Safety, Research and Special Programs Administration, Department of Transportation, Washington, DC 20590-0001. Alternatively, a statement with any attached supporting documentation in an appropriate format may be submitted by facsimile (fax) to: (202) 366-3753 or (202) 366-3308 or by electronic mail (e-mail) to: Approvals@rspa.dot.gov.

§ 107.601 [Amended]

14. Amend § 107.601(a)(2) by removing the wording “Division 1.1,1.2.or 1.3” and adding the wording “Division 1.1, 1.2, or 1.3” in its place.

15. Amend § 107.705 by revising paragraph (a)(1) to read as follows:

§ 107.705 Registrations, reports, and applications for approval.

(a) * * *

(1) File the registration, report, or application with the Associate Administrator for Hazardous Materials Safety (Attention: Approvals, DHM-32), Research and Special Programs Administration, U.S. Department of Transportation, 400 7th Street, SW., Washington, DC 20590-0001. Alternatively, the document with any attached supporting documentation in an appropriate format may be filed by facsimile (fax) to: (202) 366-3753 or (202) 366-3308 or by electronic mail (e-mail) to: Approvals@rspa.dot.gov.

PART 107 [Amended]

16. Amend 49 CFR Part 107 by removing the reference “§ 107.5” and adding “§ 105.30” each place it appears in the following sections:

a. 107.105(b)

b. 107.111

c. 107.127(b)

d. 107.705(d)

e. 107.711

17. Amend 49 CFR Part 107 by removing the reference “§ 107.7” and adding “§ 105.40” each place it appears in the following sections:

a. 107.105(a)(3)

b. 107.107(b)(4)

c. 107.402(b)(1)

d. 107.503(a)(7)

e. 107.608(e)

f. 107.705(a)(5)

PART 130—OIL SPILL PREVENTION AND RESPONSE PLANS

18. The authority citation for part 130 continues to read as follows:

Authority: 33 U.S.C. 1321.

19. Amend § 130.5, by revising the last sentence of the Note following the definition of “Liquid” to read as follows:

§ 130.5 Definitions.

* * * * *

Liquid * * *

Note: * * * Copies may be inspected at the Office of Hazardous Materials Safety, Office of Hazardous Materials Standards, Room 8422, DOT headquarters building, 400 7th St., SW, Washington, DC 20590, or at the Office of the Federal Register, 800 North Capitol St., NW, Room 700, Washington, DC 20002.

* * * * *

PART 171—GENERAL INFORMATION, REGULATIONS, AND DEFINITIONS

20. The authority citation for part 171 continues to read as follows:

Authority: 49 U.S.C. 5101-5127; 49 CFR 1.53.

§ 171.6 [Amended]

21. Amend § 171.6 (b)(2) by:

a. In the entry for Current OMB control No. “2137-0018”, in column 3, removing the commas and section citations “173.32a, 173.32b,” and adding the section citations “178.273, 178.274” and “180.605” in numerical order.

b. In the entry for Current OMB control No. “2137-0051”, in column 3, removing the commas and section citations “106.31, 106.35, 106.38, 107.5, 107.7,” and adding the section citations “105.30, 105.40” and “106.95, 106.110” in numerical order.

22. Amend § 171.7 by:

a. Revising paragraph (a)(2)(i).

b. In the table in paragraph (a)(3), under “American National Standards Institute, Inc.”, revising the address and the entry ANSI N14.1.

c. In the table in paragraph (a)(3), under “American Society of Mechanical Engineers”, revising the address.

d. In the table in paragraph (a)(3), under “American Society for Testing and Materials”, revising the entry ASTM B 580-79.

e. In the table in paragraph (a)(3), revising the entry for the “International Atomic Energy Agency”.

f. In the table in paragraph (a)(3), under “International Organization for Standardization”, revising the address for ANSI.

The revisions read as follows:

§ 171.7 Reference material.

(a) * * *

(2) * * *

(i) The Office of Hazardous Materials Safety, Office of Hazardous Materials Standards, Room 8422, NASSIF Building, 400 7th Street, SW., Washington, DC 20590; and

* * * * *

(3) Table of material incorporated by reference. * * *

Source and name of material | 49 CFR reference
* * * * * * *
American National Standards Institute, Inc.: 25 West 43rd Street, New York, NY 10036 |
* * * * * * *
ANSI N14.1 Uranium Hexafluoride—Packaging for Transport, 1971, 1982, 1987, 1990, 1995 and 2001 Editions. | 173.417; 173.420
* * * * * * *
American Society of Mechanical Engineers: ASME International, 22 Law Drive, P.O. Box 2900, Fairfield, NJ 07007-2900
* * * * * * *
American Society for Testing and Materials
* * * * * * *
ASTM B 580-79 Standard Specification for Anodic Oxide Coatings on Aluminum, (Re-approved 2000) | 173.316; 173.318; 178.338-17
* * * * * * *
International Atomic Energy Agency (IAEA): P.O. Box 100, Wagramer Strasse 5, A-1400 Vienna, Austria
Also available from: Bernan Associates, 4611-F Assembly Drive, Lanham, MD 20706-4391, USA; or Renouf Publishing Company, Ltd., 812 Proctor Avenue, Ogdensburg, New York 13669, USA
IAEA, Regulations for the Safe Transport of Radioactive Material, No. TS-R-1, 1996 Edition (Revised), (ST-1, Revised) | 171.12
IAEA, Regulations for the Safe Transport of Radioactive Material, Safety Series No. 6, 1985 Edition (as Amended 1990) | 171.12; 173.415; 173.416; 173.417; 173.473
* * * * * * *
International Organization for Standardization: Case Postale 56, CH-1211, Geneve 20, Switzerland |
Also available from: ANSI 25 West 43rd Street, New York, NY 10036 |
* * * * * * *

23. Amend § 171.8 by:

a. Revising the definitions for “Psi”, “Psia”, and “Psig”.

b. In the definition for “Registered Inspector”, revising paragraph (3).

c. Placing the definition for “Stabilized” following “Specification Packaging” in alphabetical order.

The revisions read as follows:

§ 171.8 Definitions and abbreviations.

* * * * *

Psi means pounds per square inch.

Psia means pounds per square inch absolute.

Psig means pounds per square inch gauge.

* * * * *

Registered Inspector * * *

(3) Has a high school diploma (or General Equivalency Diploma) and three years of work experience.

* * * * *

§ 171.11 [Amended]

24. Amend § 171.11 introductory text by removing the wording “ICAO Technical Instructions” and adding the wording “ICAO Technical Instructions (incorporated by reference, see § 171.7)” in its place.

§ 171.12 [Amended]

25. Amend § 171.12(d) introductory text by removing the wording “Safety Series No. 6, 1985 edition, or TS-R-1, 1996 edition (incorporated by reference, see § 171.7) ,” and adding the commas and wording “Safety Series No. 6 or TS-R-1 (incorporated by reference, see § 171.7),” in its place.

PART 172—HAZARDOUS MATERIALS TABLE, SPECIAL PROVISIONS, HAZARDOUS MATERIALS COMMUNICATIONS, EMERGENCY RESPONSE INFORMATION, AND TRAINING REQUIREMENTS

26. The authority citation for part 172 continues to read as follows:

Authority: 49 U.S.C. 5101-5127; 49 CFR 1.53.

27. Amend § 172.101 by adding paragraph (j)(5) to read as follows:

§ 172.101 Purpose and use of hazardous materials table.

* * * * *

(j) * * *

(5) The total net quantity of hazardous material for an outer non-bulk packaging that contains more than one hazardous material may not exceed the lowest permitted maximum net quantity per package as shown in Column 9A or 9B, as appropriate. If one material is a liquid and one is a solid, the maximum net quantity must be calculated in kilograms. See § 173.24a(c)(1)(iv).

§ 172.101 [Amended]

28. Amend § 172.101, in the Hazardous Materials Table by:

a. Removing special provision “25,”, in column 7, for the following entries: “Hydrogen cyanide, solution in alcohol with not more than 45 percent hydrogen cyanide”, UN 3294; “Methanesulfonyl chloride”, UN 3246; and “Methyl vinyl ketone, stabilized”, UN 1251.

b. Removing “RC 1318”, in column 2, from the entry “Octafluorocyclobutane or Refrigerant gas”, UN 1976, and adding “RC 318” in its place.

c. Adding “85, 87”, in column 10B, for the entry “Polymeric beads, expandable evolving flammable vapor”, UN 2211.

d. Removing label code reference “1.2”, in column 6, for the entry “Rockets, with inert head”, UN0502, and adding “1.2C” in its place.

e. Removing the comma, in column 2, between the words “Stannic chloride” and “pentahydrate” for the entry “Stannic chloride, pentahydrate”, UN 2440.

§ 172.101, Appendix B [Amended]

29. Amend Appendix B to § 172.101, in the List of Marine Pollutants by removing the word “Fenaminphos” and adding the word “Fenamiphos” in its place.

30. Amend § 172.102, in paragraph (c)(1) by removing special provision 25, and by revising paragraph (c)(4) introductory text to read as follows:

§ 172.102 Special provisions.

* * * * *

(c) * * *

(4) Table 1, Table 2, and Table 3-IB Codes, Organic Peroxide IBC Code, and IP Special IBC Packing Provisions. These provisions apply only to transportation in IBCs. IBCs may be used for the transportation of hazardous materials when no IBC code is assigned in the § 172.101 Table for the specific material only when approved by the Associate Administrator. The letter “Z” shown in the marking code for composite IBCs must be replaced with a capital code letter designation found in § 178.702(a)(2) of this subchapter to specify the material used for the outer packaging. Tables 1, 2, and 3 follow:

* * * * *

§ 172.203 [Amended]

31. Amend § 172.203(k) introductory text, in the second sentence, by removing the wording “Caprylyl chloride” and adding the wording “Octanoyl chloride” in each place it appears.

§ 172.407 [Amended]

32. Amend § 172.407(d)(4)(ii) by removing the wording “Room 8421” and adding the wording “Office of Hazardous Materials Safety, Office of Hazardous Materials Standards, Room 8422” in its place.

PART 173—SHIPPERS—GENERAL REQUIREMENTS FOR SHIPMENTS AND PACKAGINGS

33. The authority citation for part 173 continues to read as follows:

Authority: 49 U.S.C. 5101-5127, 44701; 49 CFR 1.53.

§ 173.4 [Amended]

34. Amend § 173.4(a)(1)(ii) by removing the wording “solids, other than Division 6.1, Packing Group 1, Hazard Zone A or B materials” and adding the wording “solid materials” in its place.

§ 173.10 [Amended]

35. Amend § 173.10(e), Note 2, in the second sentence by removing the word “injury” and adding the word “damage” in its place.

§ 173.21 [Amended]

36. Amend § 173.21(k) in the second sentence by removing the wording “or § 175.10(a)(24)”.

§ 173.54 [Amended]

37. Amend § 173.54(f) by removing the phrase “14 CFR 108.11” and adding the phrase “49 CFR 1544.219” in its place.

§ 173.115 [Amended]

38. Amend § 173.115(j) by removing the wording “173.315(a)(1)” and adding the wording “173.315(a)” in its place.

§ 173.150 [Amended]

39. Amend § 173.150(e)(1) by removing the comma and the word “, and” and adding a period in its place.

40. Amend § 173.225(b)(3) by adding a sentence at the end to read as follows:

§ 173.225 Packaging requirements and other provisions for organic peroxides.

* * * * *

(b) * * *

(3) * * * See introductory paragraph of § 172.203(k) of this subchapter for additional description requirements for an organic peroxide that may qualify for more than one generic listing, depending on its concentration.

* * * * *

41. Amend § 173.247 by revising the section heading to read as follows:

§ 173.247 Bulk packaging for certain elevated temperature materials.

* * * * *

§ 173.305 [Amended]

42. Amend § 173.305(c)(1), in the second sentence by removing the word “injury” and adding the word “damage” in its place.

§ 173.315 [Amended]

43. Amend § 173.315 by:

a. In paragraph (i)(1)(iv) removing the last sentence.

b. In paragraph (j)(3), in the second sentence, removing the word “injury” and adding the word “damage” in its place.

§ 173.316 [Amended]

44. Amend § 173.316(a)(4) by removing the wording “ASTM Standard B 580” and adding the wording “ASTM Standard B 580 (incorporated by reference, see § 171.7 of this subchapter)” in its place.

§ 173.318 [Amended]

45. Amend § 173.318(a)(4) by removing the wording “ASTM Standard B 580” and adding the wording “ASTM Standard B 580 (incorporated by reference, see § 171.7 of this subchapter)” in its place.

§ 173.320 [Amended]

46. Amend § 173.320(c), in the first sentence, by removing the term “P202” and adding the term “202” in its place.

§ 173.334 [Amended]

47. Amend § 173.334(f), in the first sentence by removing the word “injury” and adding the word “damage” in its place.

§ 173.337 [Amended]

48. Amend § 173.337 in paragraph (a) in the first sentence, and in paragraph (b) in the first sentence, by removing the word “injury” and adding the word “damage” in each place it appears.

§ 173.415 [Amended]

49. Amend § 173.415(d) in the first sentence by removing the wording “IAEA “Safety Series No. 6”” and adding the wording “IAEA “Safety Series No. 6” (incorporated by reference, see § 171.7 of this subchapter)” in its place.

§ 173.416 [Amended]

50. Amend § 173.416(b) in the first sentence by removing the wording ““Regulations for the Safe Transport of Radioactive Materials, Safety Series No. 6” “and adding the wording “ “Regulations for the Safe Transport of Radioactive Material, Safety Series No. 6” (incorporated by reference, see § 171.7 of this subchapter)” in its place.

§ 173.417 [Amended]

51. Amend § 173.417 by:

a. Removing the wording ““Regulations for the Safe Transport of Radioactive Materials, Safety Series No. 6,”“ in the first sentence of paragraph (a)(5) and adding the wording “ “Regulations for the Safe Transport of Radioactive Material, Safety Series No. 6” (incorporated by reference, see § 171.7 of this subchapter),” in its place.

b. Removing the wording “ANSI N14.1” in paragraph (a)(8)(i) and adding the wording “ANSI N14.1 (incorporated by reference, see § 171.7 of this subchapter)” in its place.

c. Removing the wording “ “Regulations for the Safe Transport of Radioactive Materials, Safety Series No. 6” “ in the first sentence of paragraph (b)(4) and adding the wording “ “Regulations for the Safe Transport of Radioactive Material, Safety Series No. 6” (incorporated by reference, see § 171.7 of this subchapter),” in its place.

52. Amend § 173.420 by revising paragraphs (a)(2)(i), (a)(2)(iii), (b) and (c) to read as follows:

§ 173.420 Uranium hexafluoride (fissile, fissile excepted and nonfissile).

(a) * * *

(2) * * *

(i) American National Standard N14.1 (2001, 1995, 1990, 1987, 1982, 1971) (incorporated by reference, see § 171.7 of this subchapter) in effect at the time the packaging was manufactured;

(ii) * * *

(iii) Section VIII, Division I of the ASME Code (incorporated by reference, see § 171.7 of this subchapter), provided the packaging —

* * * * *

(b) Packagings for uranium hexafluoride must be periodically inspected, tested, marked and otherwise conform with the latest incorporated edition of ANSI N14.1 (incorporated by reference, see § 171.7 of this subchapter).

(c) Each repair to a packaging for uranium hexafluoride must be performed in accordance with the latest incorporated edition of ANSI N14.1 (incorporated by reference, see § 171.7 of this subchapter).

* * * * *

53. Amend § 173.471 by revising paragraphs (d) and (e) to read as follows:

§ 173.471 Requirements for U.S. Nuclear Regulatory Commission approved packages.

* * * * *

(d) Before export shipment of the package, the offeror shall obtain a U.S. Competent Authority Certificate for that package design, or if one has already been issued, the offeror shall register in writing (including a description of the quality assurance program required by 10 CFR part 71) with the U.S. Competent Authority as a user of the certificate. (Note: The person who originally applies for a U.S. Competent Authority Certificate will be registered automatically.) The registration request must be sent to the Associate Administrator for Hazardous Materials Safety (DHM-23), Department of Transportation, 400 Seventh Street, SW., Washington DC 20590-0001. Alternatively, the application with any attached supporting documentation in an appropriate format may be submitted by facsimile (fax) to (202) 366-3753 or (202) 366-3650, or by electronic mail (e-mail) to “ramcert@rspa.dot.gov.” Upon registration, the offeror will be furnished with a copy of the certificate. The offeror shall then submit a copy of the U.S. Competent Authority Certificate applying to that package design to the national competent authority of each country into or through which the package will be transported, unless the offeror has documentary evidence that a copy has already been furnished; and

(e) Each request for a U.S. Competent Authority Certificate as required by the IAEA regulations must be submitted in writing to the Associate Administrator. The request must be in triplicate and include copies of the applicable USNRC packaging approval, USNRC Quality Assurance Program approval number, and a reproducible 22 cm × 30 cm (8.5″ × 11″) drawing showing the make-up of the package. The request and accompanying documentation must be sent to the Associate Administrator for Hazardous Materials Safety (DHM-23), Department of Transportation, 400 Seventh Street, SW., Washington DC 20590-0001. Alternatively, the application with any attached supporting documentation in an appropriate format may be submitted by facsimile (fax) to (202) 366-3753 or (202) 366-3650, or by electronic mail (e-mail) to “ramcert@rspa.dot.gov.” Each request is considered in the order in which it is received. To allow sufficient time for consideration, requests must be received at least 90 days before the requested effective date.

* * * * *

54. Amend § 173.472 by revising paragraph (f) to read as follows:

§ 173.472 Requirements for exporting DOT Specification Type B and fissile packages.

* * * * *

(f) Each request for a U.S. Competent Authority Certificate as required by the IAEA regulations must be submitted in writing to the Associate Administrator. The request must be in triplicate and must include a description of the quality assurance program required by 10 CFR part 71, subpart H, or 49 CFR 173.474 and 173.475, and a reproducible 22 cm × 30 cm (8.5″ × 11″) drawing showing the make-up of the package. A copy of the USNRC quality assurance program approval will satisfy the requirement for describing the quality assurance program. The request and accompanying documentation may be sent by mail or other delivery service. Alternatively, the request with any attached supporting documentation submitted in an appropriate format may be sent by facsimile (fax) to (202) 366-3753 or (202) 366-3650, or by electronic mail (e-mail) to “ramcert@rspa.dot.gov.” Each request is considered in the order in which it is received. To allow sufficient time for consideration, requests must be received at least 90 days before the requested effective date.

* * * * *

55. Amend § 173.473 by revising paragraphs (a)(1) and (a)(2) to read as follows:

§ 173.473 Requirements for foreign-made packages.

* * * * *

(a) * * *

(1) Have the foreign competent authority certificate revalidated by the U.S. Competent Authority, unless this has been done previously. Each request for revalidation must be submitted to the Associate Administrator. The request must be in triplicate, contain all the information required by Section VII of the IAEA regulations in Safety Series No. 6 (incorporated by reference, see § 171.7 of this subchapter), and include a copy in English of the foreign competent authority certificate. Alternatively, the request with any attached supporting documentation submitted in an appropriate format may be sent by facsimile (fax) to (202) 366-3753 or (202) 366-3650, or by electronic mail to “ramcert@rspa.dot.gov.” Each request is considered in the order in which it is received.

To allow sufficient time for consideration, requests must be received at least 90 days before the requested effective date;

(2) Register in writing with the U.S. Competent Authority as a user of the package covered by the foreign competent authority certificate and its U.S. revalidation. Alternatively, the registration request with any attached supporting documentation submitted in an appropriate format may be sent by facsimile (fax) to (202) 366-3753 or (202) 366-3650, or by electronic mail (e-mail) to “ramcert@rspa.dot.gov.” If the offeror is requesting the revalidation, registration is automatic; and

* * * * *

56. Amend § 173.476 by revising paragraph (c) introductory text to read as follows:

§ 173.476 Approval of special form Class 7 (radioactive) materials.

* * * * *

(c) Each request for a U.S. Competent Authority Certificate as required by the IAEA regulations must be submitted in writing, in triplicate, by mail or other delivery service to the Associate Administrator. Alternatively, the request with any attached supporting documentation submitted in an appropriate format may be sent by facsimile (fax) to (202) 366-3753 or (202) 366-3650, or by electronic mail (e-mail) to “ramcert@rspa.dot.gov”. Each request is considered in the order in which it is received. To allow sufficient time for consideration, requests must be received at least 90 days before the requested effective date. Each petition for a U.S. Competent Authority Certificate must include the following information:

* * * * *

PART 175—CARRIAGE BY AIRCRAFT

57. The authority citation for part 175 continues to read as follows:

Authority: 49 U.S.C. 5101-5127; 49 CFR 1.53.

§ 175.10 [Amended]

58. Amend § 175.10(a)(5), in the second sentence, by removing the phrase “14 CFR 108.11(a) and (b)” and adding the phrase “49 CFR 1544.219” in its place.

§ 175.320 [Amended]

59. Amend § 175.320(b)(5), in the first sentence, by removing the wording “part 127” and adding the wording “part 133” in its place.

PART 176—CARRIAGE BY VESSEL

60. The authority citation for part 176 continues to read as follows:

Authority: 49 U.S.C. 5101-5127; 49 CFR 1.53.

§ 176.2 [Amended]

61. Amend § 176.2, in the definition for “INF cargo”, by removing the phrase “(contained in IMDG Code, 2000 edition, see § 171.7 of this subchapter)” and adding the phrase “(contained in IMDG Code, incorporated by reference, see § 171.7 of this subchapter)” in its place.

62. Amend § 176.128 by revising paragraph (c) to read as follows:

§ 176.128 Magazine stowage, general.

* * * * *

(c) Magazine stowage type B is required for Charges, propelling, for cannon, UN 0279, UN 0414, and UN 0242; and Charges, supplementary, explosive, UN 0600, in compatibility group C or D. Magazine stowage type C is required for detonators and similar articles in divisions and compatibility group 1.1B and 1.2B (explosive).

§ 176.340 [Amended]

63. Amend § 176.340 by:

a. In paragraph (b)(9), removing “§ 173.32(e)(2), (3), and (4)” and adding “§ 180.605” in its place.

b. In paragraph (b)(10), removing the wording “paragraphs (g), (h), (i), and (k) of § 173.32” and adding the wording “§ 180.605(b) and (j)” in its place.

PART 177—CARRIAGE BY PUBLIC HIGHWAY

64. The authority citation for Part 177 continues to read as follows:

Authority: 49 U.S.C. 5101-5127; 49 CFR 1.53.

65. Amend § 177.840 by revising paragraph (l) to read as follows:

§ 177.840 Class 2 (gases) materials.

* * * * *

(l) Operating procedure. Each operator of a cargo tank motor vehicle that is subject to the emergency discharge control requirements in § 173.315(n) of this subchapter must carry on or within the cargo tank motor vehicle written emergency discharge control procedures for all delivery operations. The procedures must describe the cargo tank motor vehicle's emergency discharge control features and, for a passive shut-down capability, the parameters within which they are designed to function. The procedures must describe the process to be followed if a facility-provided hose is used for unloading when the cargo tank motor vehicle has a specially equipped delivery hose assembly to meet the requirements of § 173.315(n)(2) of this subchapter.

* * * * *

PART 178—SPECIFICATIONS FOR PACKAGINGS

66. The authority citation for part 178 continues to read as follows:

Authority: 49 U.S.C. 5101-5127; 49 CFR 1.53.

§ 178.3 [Amended]

67. Amend § 178.3(b) introductory text and paragraph (b)(1) by removing the wording “Annex 1 of” in each place it appears.

§ 178.51 [Amended]

68. Amend § 178.51(f)(1)(i) by removing the wording “table I” and adding the wording “table 1” in its place.

69. Amend § 178.58 by revising paragraph (k)(2)(ii) to read as follows:

§ 178.58 Specification 4DA welded steel cylinders for aircraft use.

* * * * *

(k) * * *

(2) * * *

(ii) The test cylinder must be placed between wedge-shaped knife edges having a 60° angle, rounded to a ½-inch radius.

* * * * *

§ 178.59 [Amended]

70. Amend § 178.59(j)(3)(iv) by removing the wording “per-minute” and adding the wording “per minute” in its place.

§ 178.61 [Amended]

71. Amend § 178.61 by:

a. In paragraph (b)(1), removing the wording “table I” and adding the wording “table 1” in its place.

b. In paragraph (b)(2), in the fourth sentence, removing the phrase “paragraph (f)(1)” and adding the phrase “paragraph (f)(4)” in its place.

§ 178.270-11 [Amended]

72. Amend § 178.270-11(d)(3), in the first sentence, by removing the phrase “§ 173.32a of this subchapter” and adding “§ 178.273(b)(7)” in its place.

§ 178.273 [Amended]

73. Amend § 178.273(b)(8)(ii), by removing the phrase “§ 180.605 of this subchapter” and adding “§ 178.274(j)” in its place.

§ 178.338-17 [Amended]

74. Amend § 178.338-17(b) by removing the wording “ASTM Standard B 580” and adding the wording “ASTM Standard B 580 (incorporated by reference, see § 171.7 of this subchapter)” in its place.

§ 178.354-3 [Amended]

75. Amend § 178.354-3(a) introductory text, in the first sentence, by removing the commas and phrase”, such as a DOT Specification 6C or 17C,”.

§ 178.356-3 [Amended]

76. Amend § 178.356-3(a), in the second sentence, by removing “776mm” and adding “776 mm” in its place.

§ 178.362-1 [Amended]

77. Amend § 178.362-1(b)(6) by removing the phrase “2230 kg” and adding the phrase “2730 kg” in its place.

§ 178.503 [Amended]

78. Amend § 178.503(e)(3), following the illustration, by removing the parenthetical expression “(as in § 178.503(c)(1), (2), (3), (4), and (5))” and adding the parenthetical expression “(as in § 178.503(c)(1))” in its place.

79. Amend § 178.603 by revising the introductory text to paragraph (e) to read as follows:

§ 178.603 Drop test.

* * * * *

(e) Drop height. Drop heights, measured as the vertical distance from the target to the lowest point on the package, must be equal to or greater than the drop height determined as follows:

* * * * *

§ 178.707 [Amended]

80. Amend § 178.707 by revising paragraph (a) to read as follows:

§ 178.707 Standards for Composite IBCs.

(a) The provisions in this section apply to composite IBCs intended to contain solids and liquids. To complete the marking codes listed below, the letter “Z” must be replaced by a capital letter in accordance with § 178.702(a)(2) to indicate the material used for the outer packaging. Composite IBC types are designated:

(1) 11HZ1 Composite IBCs with a rigid plastic inner receptacle for solids loaded or discharged by gravity.

(2) 11HZ2 Composite IBCs with a flexible plastic inner receptacle for solids loaded or discharged by gravity.

(3) 21HZ1 Composite IBCs with a rigid plastic inner receptacle for solids loaded or discharged under pressure.

(4) 21HZ2 Composite IBCs with a flexible plastic inner receptacle for solids loaded or discharged under pressure.

(5) 31HZ1 Composite IBCs with a rigid plastic inner receptacle for liquids.

(6) 31HZ2 Composite IBCs with a flexible plastic inner receptacle for liquids.

* * * * *

PART 179—SPECIFICATIONS FOR TANK CARS

81. The authority citation for part 179 continues to read as follows:

Authority: 49 U.S.C. 5101-5127; 49 CFR 1.53.

82. Amend § 179.201-2, in paragraph (a), by removing “1½” and adding “½ (1)” each place it appears in the table, in column 2, for the entries “Over 78 to 96 inches” and “Over 96 to 112 inches”.

§ 179.500-10 [Amended]

83. Amend § 179.500-10(a), in the first sentence by removing the word “injury” and adding the word “damage” in its place.

PART 180—CONTINUING QUALIFICATION AND MAINTENANCE OF PACKAGINGS

84. The authority citation for part 180 continues to read as follows:

Authority: 49 U.S.C. 5101-5127; 49 CFR 1.53.

§ 180.417 [Amended]

85. Amend § 180.417(c)(2), in the second sentence, by removing the wording “Director, Regional Office of Motor Carrier Safety, Federal Highway Administration” and adding the wording “Field Administrator, Regional Service Center, Federal Motor Carrier Safety Administration” in its place.

Issued in Washington, DC, on September 3, 2002, under authority delegated in 49 CFR part 1.
Ellen G. Engleman,
Administrator.

[FR Doc. 02-22817 Filed 9-26-02; 8:45 am]

BILLING CODE 4910-60-P